DEPARTMENT OF JUSTICE

Antitrust Division

Notice Pursuant to the National Cooperative Research and Production Act of 1993—Naval Aviation Systems Consortium

Notice is hereby given that, on October 24, 2019, pursuant to Section 6(a) of the National Cooperative Research and Production Act of 1993, 15 U.S.C. 4301 et seq. (“the Act”), Naval Aviation Systems Consortium (“NASC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: A. Harold & Associates, LLC, Jacksonville, FL; AAI Corporation d/b/a Textron Systems, Hunt Valley, MD; AAR, Wood Dale, IL; Abaco Systems, Huntsville, AL; ABSI Aerospace and Defense, California, MD; Accenture Federal Services LLC, Arlington, VA; Acuity Systems, LLC, Herndon, VA; Adams Communication and Engineering Technology (ACET), Lexington Park, MD; Addx Corporation, Alexandria, VA; ADS, Inc., Virginia Beach, VA; Advanced Aircraft Company, Hampton, VA; Advanced Ground Information Systems, Inc., Jupiter, FL; Advanced Onion, Inc., Monterey, CA; Aeroflex Wichita, Inc., Wichita, KS; Aeronix, Inc., Melbourne, FL; Agile Defense, Inc., Reston, VA; Agilious, Bethesda, MD; Agyle Networks, LLC, Plano, TX; Airborne Systems North America, Santa Ana, CA; AIRtec Inc., California, MD; AIXI, Raleigh, NC; ALEX-Alternative Experts, LLC, Dumfries, VA; Alfresco Software, Inc., Alexandria, VA; Alion Science and Technology Corporation, Lusby, MD; Almond Consulting Group, Inc., Oviedo, FL; Alta Via Consulting, LLC, Alexandria, VA; AM Pierce & Associates, Inc., California, MD; Amazon Web Services, Inc., Seattle, WA; American Systems Corporation, Chantilly, VA; Ampex Data Systems Corporation, Hayward, CA; Andromeda Systems Incorporated, Orange Park, FL; ANSOL, Inc., San Diego, CA; Apcerto, Ashburn, VA; Appian Logic, Great Falls, VA; Applied Energetics, Tucson, AZ; Applied Signals Intelligence, Sterling, VA; Applied Techniques Corporation, Lexington Park, MD; Applied Technology, Inc., King George, VA; Arrowhead Global, LLC, Clearwater, FL; ART Rugged Systems, Inc., El Dorado Hills, CA; Artisan Electronics, Odon, IN; Assurance Technology Corporation, Carlisle, MA; ATC-NY, Ithaca, NY; ATI Defense, Arlington, VA; Attollo, LLC, Lincoln, RI; Auburn University, Auburn, AL; AURA Technologies, Raleigh, NC; Avatar Partners, Inc., Virginia Beach, VA; AVIAN, Inc., Lexington Park, MD; Avineon, Inc., McLean, VA; AVT Simulation, Orlando, FL; Axellio Inc., Colorado Springs, CO; BAE Systems, California, MD; Ball Aerospace & Technologies Corporation, Westminster, CO; Base2 Engineering, LLC, Annapolis, MD; Bell Textron, Inc., Fort Worth, TX; Berg Manufacturing, Inc., Spokane, WA; Bevilacqua Research Corporation, Huntsville, AL; BGI, LLC, Akron, OH; BiTMICRO Networks, Inc., Fremont, CA; BlackLynx, Rockville, MD; Blue Ivy Partners, Arlington, VA; BMC Software, Inc., McLean, VA; BMNT, Palo Alto, CA; Boeing Global Services, Burien, WA; Booz Allen Hamilton, Inc., McLean, VA; BriteWerx, Inc., Aldie, VA; Business Integra, Bethesda, MD; CACI, Inc.—FEDERAL, Chantilly, VA; Cambridge International Systems, Inc., Arlington, VA; CAMX Power, LLC, Lexington, MA; Cape Henry Associates, Inc., Virginia Beach, VA; Carolina Unmanned Vehicles, Raleigh, NC; CaVU Consulting, Inc., San Diego, CA; CDW-G, Vernon Hills, IL; Centauri, Chantilly, VA; Chainalysis, Inc., Washington, DC; Cherokee Nation Red Wing, LLC, Huntsville, AL; Chesapeake Technology International Corporation, California, MD; Cintel, Inc., Huntsville, AL; Cisco Systems, Inc., San Jose, CA; Clason Point Partners, Inc., Yonkers, NY; Clear Align, LLC, Columbia, MD; Clear Ridge Defense, LLC, Nashua, NH; clearAvenue, LLC, Baltimore, MD; CLK Executive Decisions, LLC, Poquoson, VA; Cloud Front Group, Inc., McLean, VA; Cloudera Government Solutions Inc., Reston, VA; CMC Electronics, Buford, GA; Coalition Solutions Integrated, Inc., Hollywood, MD; CoAspire, LLC, Fairfax, VA; CodeMettle, Atlanta, GA; Coherent Technical Services, Inc., Lexington Park, MD; Collins Aerospace, Palo, IA; Colorado Engineering, Inc., Colorado Springs, CO; Colvin Run Networks LLC, Great Falls, VA; Commonwealth Trading Partners, Inc., Alexandria, VA; Compendium Federal Technology, Lexington Park, MD; Concurrent Technologies Corporation, Johnstown, PA; Consortium Management Group, Inc., Washington, DC; CORAS, Inc., McLean, VA; Cornerstone Research Group, Miamisburg, OH; Corsair Technical Services, Inc., Kirkland, WA; Corvid Technologies, LLC, Mooresville, NC; CRFS Inc., Chantilly, VA; Cubic Defense Applications, Inc., San Diego, CA; CUBRC, Inc., Buffalo, NY; Curtiss-Wright Defense Solutions, Edina, MN; CyberX Labs, Waltham, MA; D Gillette Industrial Services Inc., Bangor, MA; D. Wheatley Enterprises, Inc., Belcamp, MD; Daprato Machine Company, Toronto, ON; Data Machines Corporation, Ashburn, VA; DataRobot, Inc., Boston, MA; Davis Defense Group, Inc., Stafford, VA; Daylight Defense, LLC, San Diego, CA; DE Design Works (Dave Engineering LLC), Earth City, MO; deciBel Research, Inc., Huntsville, AL; Decision Sciences, Inc., Fort Walton Beach, FL; Deloitte Consulting LLP, Arlington, VA; Derco Aerospace. a Lockheed Martin Company, Milwaukee, WI; Dfuse Technologies, Inc., Sterling, VA; DHPC Technologies, Inc., Woodbridge, NJ; Disk Enterprise Solutions, Inc., Lexington Park, MD; DNS, Portland, OR; DuPont, Wilmington, DE; Dynamic Aviation Group, Inc., Bridgewater, VA; Dynetics Technical Solutions, Inc., Madison, AL; Echo Ridge, LLC, Sterling, VA; ECI Defense Group, Lyles, TN; ECS Federal, LLC, Fairfax, VA; Elbit Systems of America, LLC, Fort Worth, TX; Elta North America, Annapolis Junction, MD; Embry-Riddle Aeronautical University, Daytona Beach, FL; Enlighten IT Consulting, LLC, Linthicum Heights, MD; ENSCO Avionics, Inc., Endicott, NY; EnterpriseDB Corporation, Bedford, MA; enVention, LLC, Huntsville, AL; Envistacom, LLC, Atlanta, GA; Epoch Concepts LLC, Highlands Ranch, CO; EPS Corporation, Tinton Falls, NJ; Evanhoe & Associates, Inc., Dayton, OH; Evans Incorporated, Falls Church, VA; F1 Concepts, LLC, Williamsburg, VA; Fathom 4, LLC, Charleston, SC; FGS, LLC, La Plata, MD; Fifty Pound Brains, LLC, Winter Park, FL; FIRST RF Corporation, Boulder, CO; FLIR Surveillance, Hollywood, MD; Florida Institute for Human & Machine Cognition (IHMC), Pensacola, FL; Florida Institute of Technology, Melbourne, FL; FragCity, Inc., Fredericksburg, VA; Frontier Technology, Inc., Beavercreek, OH; Fuse Integration, Inc., San Diego, CA; G2 Software Systems, Inc., San Diego, CA; G2IT, LLC, Annapolis, MD; G3 Technologies, Columbia, MD; Galorath Incorporated, Arlington, VA; GBL Systems Corporation, Camarillo, CA; GCC Technologies, LLC, Oakland, MD; GE Aviation Systems, Grand Rapids, MI; General Dynamics Information Technology, California, MD; General Dynamics Mission Systems, Inc., Bloomington, MN; GenXComm, Inc., Austin, TX; Georgia Tech Research Institute, Smyrna, GA; GeoSpark Analytics, Inc., Herndon, VA; Gigamon Inc., Vienna, VA; Global Air Logistics & Training, LLC, Del Mar, CA; Governors America Corporation, Agawam, MA; Green Hills Software, Columbia, MD; Greensight Agronomics, Inc., Boston, MA; Gryphon Technologies LC, Sewell, NJ; Guidehouse LLP, McLean, VA; Haave, LLC, Evergreen, CO; HART Technologies, Inc., Manassas, VA; Herdt Consulting, Inc., Chelsea, AL; Heron Systems Inc., California, MD; Herrick Technology Laboratories, Inc., Germantown, MD; Highlight Technologies, LLC, Fairfax, VA; HII Mission Driven Innovative Solutions Inc. (HII-MDIS), Huntsville, AL; Hitachi Vantara Federal, Reston, VA; hJm Consulting, LLC, Lusby, MD; Holling Enterprises LLC, Ponte Vedra Beach, FL; Honeycomb Secure Systems, Inc., Guntersville, AL; Hop Flyt, Lusby, MD; HOPZERO Inc., Austin, TX; HumanTouch, LLC, McLean, VA; Hypergiant Industries, Austin, TX; HYPR Corporation, New York, NY; IAP Worldwide Services, Inc., Cape Canaveral, FL; IBM, Bethesda, MD; Idaho Scientific, Boise, ID; Imagine One Technology & Management, Ltd., Lexington Park, MD; Infor, Evergreen, CO; Information Assurance Specialists, Turnersville, NJ; Innovative Defense Technologies, Arlington, VA; Innovative People and Technology Corporation (IPT Corp), California, MD; Integrated Production Systems Inc., Arlington, TX; IntelliDyne, LLC, Falls Church, VA; Intellisense Systems Inc., Torrance, CA; Intevac Photonics, Inc., Santa Clara, CA; Intuitive Research and Technology Corporation, Huntsville, AL; Ion Channel, Alexandria, VA; iRF Solutions, Sparks, MD; Iris Technology Corporation, Irvine, CA; J.F. Taylor, Inc., Lexington Park, MD; Jackson and Tull, Greenbelt, MD; Jenoptik Advanced Systems, LLC, Jupiter, FL; JET Systems LLC, Lexington Park, MD; JHNA, Inc., Alexandria, VA; KAIROS, Inc., California, MD; KBRwyle, Lexington Park, MD; Keysight Technologies, Arlington, VA; KIHOMAC, Reston, VA; Kitty Hawk Technologies, Honesdale, PA; KnowledgeBridge International Inc., Herndon, VA; Kolbitar, Lusby, MD; Kopis Mobile, Flowood, MS; Kratos Defense & Security Solutions, Inc., Orlando, FL; Kutta Technologies, Inc., Phoenix, AZ; L3Harris, Lexington Park, MD; Leidos, Reston, VA; Leonardo DRS, Germantown, MD; Level X Technologies Inc., Oakland Park, FL; LinQuest Corporation, Los Angeles, CA; Lockheed Martin Corporation, Moorestown, NJ; Logistic Services International, Inc., Jacksonville, FL; Lone Star Analysis, Addison, TX; Long Wave Inc., Oklahoma City, OK; M2 Technology Inc., San Antonio, TX; Maga Design, Washington, DC; Magee Technologies LLC (MTech), California, MD; Management Analysis Network, Harvest, AL; ManTech International, Herndon, VA; MarkLogic Corporation, McLean, VA; Maryland Procurement Technical Assistance Program, College Park, MD; Mastodon Design, Rochester, NY; McAfee, Reston, VA; MDSA Aerospace, Exton, PA; Mediabarn, Inc., Arlington, VA; Mercer Engineering Research Center (MERC), Warner Robins, GA; Mercury Defense Systems, Inc., Cypress, CA; Meridian Technology Systems, Inc., Adamstown, MD; Microchip Technology Corporation, Chandler, AZ; Microsoft Corporation, Morrisville, NC; Mike Sutton Consulting, Inc. (MSCI), Owens Cross Roads, AL; Mikros Systems Corporation, Fort Washington, PA; MiMoCloud, College Park, MD; Miner & Kasch, Elkridge, MD; Mission Secure, Inc., Charlottesville, VA; MKS2, LLC, Austin, TX; Mnemonics Incorporated, Melbourne, FL; Mosaic ATM, Inc., Leesburg, VA; Motorola Solutions, Inc., Schaumburg, IL; MTEQ, Inc., Lorton, VA; NAG Marine, Norfolk, VA; Nahsai, LLC, Ann Arbor, MI; Nara Logics, Inc., Boston, MA; National Center for Defense Manufacturing and Machining, Blairsville, PA; Naval Systems, Inc., Lexington Park, MD; NAVMAR, Warminster, PA; NCI Information Systems, Inc., Reston, VA; NCS Technologies, Inc., Gainesville, VA; NetApp, Falls Church, VA; Netizen Corporation, Allentown, PA; Netorian, LLC, Aberdeen, MD; Network Defense Protection LLC, Sterling, VA; Next Tier Concepts, Inc., Vienna, VA; Nishati, Inc., Gilbert, AZ; Noblis, Reston, VA; North Atlantic Industries, Bohemia, NY; Northrop Grumman Systems Corporation, Linthicum Heights, MD; Novetta Inc., McLean, VA; NTS—National Technical Systems, Camden, AR; NuEyes Technologies, Inc., Newport Beach, CA; Nutanix, San Jose, CA; Object CTalk Inc., King of Prussia, PA; ODME Solutions, LLC, San Diego, CA; Offset Strategic Services, LLC, Huntsville, AL; Old Dominion University, Modeling and Simulation Engineering Department, Norfolk, VA; Omega Aerial Refueling Services, Inc., Alexandria, VA; OMNI Technologies, LLC; OMNITEC Solutions, Inc., Bethesda, MD; Onclave Networks, Inc., McLean, VA; Oracle America, Inc., Redwood Shores, CA; Orolia Government Systems, Inc., Rochester, NY; OST, McLean, VA; P E Systems, Inc., Fairfax, VA; Pacific Aerospace Consulting, San Diego, CA; Pacific Star Communications, Inc., Portland, OR; PAL Services, Inc., O'Fallon, MO; Palantir USG, Inc., Washington, DC; Parker Aerospace, Irvine, CA; Parsons Corporation, Huntsville, AL; Parts Life, Inc., Moorestown, NJ; PCM-G, Inc., Herndon, VA; Pegasystems, Cambridge, MA; Penn State Executive Programs—The Pennsylvania State University, University Park, PA; Peregrine Technical Solutions, LLC, Yorktown, VA; Permuta Technologies, Springfield, VA; Perrygo Consulting Group, LLC, Lexington Park, MD; Perspecta Enterprise Solutions LLC, Herndon, VA; Perspecta, Inc., Chantilly, VA; Petascale Computing & Fabrication, Glenelg, MD; Phasor, Inc., Arlington, VA; Physical Optics Corporation, Torrance, CA; Piasecki Aircraft Corporation, Essington, PA; Pitney Bowes Inc., Annapolis, MD; Pivot Industries Limited, Littleton, CO; Platform Aerospace, Hollywood, MD; Programs Management Analytics and Technologies, Inc. (PMAT), San Diego, CA; Polaris Alpha Advanced Systems, Inc.; Precise Systems Inc., Lexington Park, MD; Precision Combustion, Inc., North Haven, CT; PreTalen, Ltd., Beavercreek, OH; Priority 5 Holdings, Inc., Needham, MA; Probus Test Systems, Inc., Lincroft, NJ; Pryon, Inc., Raleigh, NC; PSI Pax, Inc., California, MD; Pure Storage—All Flash Technology, Reston, VA; QED Systems Inc., Virginia Beach, VA; Qlik, Leesburg, VA; Quest Public Sector, Rockville, MD; R2C Inc., Huntsville, AL; R9B, Colorado Springs, CO; Ratio Innovation Management, LLC, Fredericksburg, VA; RavenTek Solution Partners, Herndon, VA; Raytheon Company, Waltham, MA; Red Hat, Inc., McLean, VA; Red River Technology LLC, Reston, VA; Red Wire Technologies, Knoxville, TN; REDCOM Laboratories, Inc., Victor, NY; Redstone Aviation Group, Huntsville, AL; Reservoir Labs, Inc., New York, NY; Resource Management Concepts, Inc., Lexington Park, MD; Rite-Solutions, Inc., Arlington, VA; RIX Industries, Benicia, CA; Rocket Technology, Inc., Richmond, VA; Rohde & Schwarz USA, Inc., Flower Mound, TX; Sabre Systems Inc., Lexington Park, MD; Safe, Inc., Tempe, AZ; Science Applications International Corporation (SAIC), Reston, VA; SAP, Washington, DC; Scalable Network Technologies, Inc., Culver City, CA; Science and Engineering Services LLC, California, MD; Scientific Research Corporation, North Charleston, SC; Sealing Technologies, Inc., Columbia, MD; Sechan Electronics, Inc., Lititz, PA; Segue Technologies, Inc., Arlington, VA; Sensalyze, Leesburg, VA; ServiceNow, Vienna, VA; Sev1Tech, LLC, Woodbridge, VA; Si2 Technologies, Inc., North Bellerica, MA; Sierra Nevada Corporation, Sparks, NV; Silver Palm Technologies, Ijamsville, MD; SimVentions, Fredericksburg, VA; SitScape, Inc., Vienna, VA; Skyways Air Transportation, Inc., Manor, TX; SMFS, Inc. dba GRIMM, Dunn Loring, VA; Soar Technology, Inc., Ann Arbor, MI; Software Professional Solutions, Inc. (SPS), Colts Neck, NJ; Solers, Inc., Arlington, VA; SOLUTE, San Diego, CA; Southeastern Computer Consultants, Inc., Frederick, MD; Southern Research, Birmingham, AL; Southwest Research Institute, San Antonio, TX; Spalding Consulting, Inc., Lexington Park, MD; Specialty Systems, Inc., Toms River Township, NJ; Spectrum Comm, Inc., Newport News, VA; Spirit AeroSystems, Inc., Wichita, KS; SR Technologies, Inc., Sunrise, FL; SRC, Inc., North Syracuse, NY; SRI International, Arlington, VA; St. Moritz Enterprises, LLC, Orlando, FL; StraCon Services Group, LLC, Fort Worth, TX; Strategic Solutions Unlimited, Inc., Fayetteville, NC; Stryke Industries, LLC, Fort Wayne, IN; Sullivan Cove Consultants, LLC, Severna Park, MD; SURVICE Engineering Company, LLC, Belcamp, MD; SWMG Productions, Inc., Phoenix, AZ; Synectic Solutions, Inc., Lexington Park, MD; Synertex LLC, Reston, VA; Systems & Technology Research, Woburn, MA; Systems Engineering Group, Columbia, MD; Systems Innovation Engineering, Ashburn, VA; Tactical Air Support, Inc., Lexington Park, MD; TapHere! Technology, LLC, Manassas, VA; Technica Corporation, Dulles, VA; Technical Systems Integration, Inc., Norfolk, VA; Technology Security Associates, Inc., California, MD; Technology Service Corporation (TSC), Los Angeles, CA; Telephonics Corporation, Farmingdale, NY; Telesto Group, LLC, West Palm Beach, FL; Tennessee State University, Nashville, TN; Thales Defense & Security, Inc., Clarksburg, MD; The Albers Group, LLC, McKinney, TX; The Boeing Company, Lake Ridge, VA; The Center for Innovation, Technology, and Entrepreneurship, Inc. (CITE), Baltimore, MD; The Charles Stark Draper Laboratory, Inc., Cambridge, MA; The Informatics Applications Group, Inc. (TIAG), Reston, VA; The Maryland Center at Bowie State University, Bowie, MD; The MIL Corporation, Lexington Park, MD; The Patuxent Partnership, Lexington Park, MD; The RMA Consultants, Inc., Manassas, VA; The SANS Institute, North Bethesda, MD; The University of Alabama in Huntsville, Huntsville, AL; Thomas Global Systems, Irvine, CA; ThoughtSpot, Sunnyvale, CA; TIAX, LLC, Lexington, MA; TIC Secure, LLC, Bethesda, MD; TMA, Inc., Chantilly, VA; Torch Technologies, Inc., Huntsville, AL; TQI Solutions, Inc., Norfolk, VA; Transformational Security, LLC, Columbia, MD; Transtecs Corporation, Arlington, VA; Trex Enterprises Corporation, San Diego, CA; Trifacta, Towson, MD; Trinary Software, Los Angeles, CA; Tummah Technology, Inc., Huntsville, AL; Ultra Electronics—USSI, Columbia City, IN; Unisys Corporation, Reston, VA; United Rotorcraft, An Air Methods Division, Englewood, CO; University of Florida, Florida Applied Research in Engineering, Gainesville, FL; Up Doppler Consulting, LLC, Leonardtown, MD; Valour, LLC, Lexington Park, MD; Vanguard Marketing International, Inc. (VMI), Cave Creek, AZ; Veraxx Engineering Corporation, Chantilly, VA; Vertex Aerospace, Madison, MS; VES, LLC, Aberdeen Proving Ground, MD; Viasat, Inc., Carlsbad, CA; Virginia Polytechnic Institute and State University, Blacksburg, VA; Visionary Business Solutions, LLC, Merchantville, NJ; VRgluv, Atlanta, GA; VT Group, Chantilly, VA; Vyalex Management Solutions, Inc., Lexington Park, MD; Williams-Jones Consulting, Easton, PA; Wireless Research Center of North Carolina, Lake Forest, NC; Woolpert, Charlotte, NC; World Wide Technology, Saint Louis, MO; X Technologies, Inc., San Antonio, TX; X-Feds, Inc., San Diego, CA; Zekiah Technologies, Inc., La Plata, MD; Zenetex, LLC, Washington, DC; and Zolon Tech Inc., Herndon, VA.

The general area of NASC's planned activity is to execute and implement an Other Transaction Agreement (“OT Agreement”) with the U.S. Government (“Government”) (a) for the funding of certain research, development, testing and evaluation of prototypes leading to follow-on project production to be conducted as a collaboration between the Government and the NASC Members, to enhance the capabilities of the Government and its departments and agencies in the development of prototypes and full production thereof in the critical technology field of naval aviation (“NASC Mission”); (b) to participate in the establishment of sound technical and programmatic performance goals based on the needs and requirements of the Government's naval aviation Technology Objectives; (c) to provide a unified voice to effectively articulate the global and strategically important role the NASC Mission plays in furthering national security objectives; and (d) to maximize the utilization of the Government's and Members' capabilities to effectively develop critical technologies which can be transitioned and commercialized.

Suzanne Morris,
Chief, Premerger and Division Statistics Unit, Antitrust Division.

[FR Doc. 2019-26652 Filed 12-10-19; 8:45 am]

BILLING CODE 4410-11-P